DEPARTMENT OF AGRICULTURE

Forest Service

Siuslaw Resource Advisory Committee

AGENCY: Forest Service, Agriculture (USDA).

ACTION: Notice of meeting.

SUMMARY: The Siuslaw Resource Advisory Committee (RAC) will hold three virtual meetings by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act, as well as to make recommendations on recreation fee proposals for sites on the Siuslaw National Forest, consistent with the Federal Lands Recreation Enhancement Act, within Tillamook, Lincoln, Yamhill, Benton, Lane, Coos, and Douglas counties. RAC information and virtual meeting information can be found at the following website: https://www.fs.usda.gov/main/siuslaw/workingtogether/advisorycommittees.

DATES: The meetings will be held on December 6, 2021, December 10, 2021, and December 15, 2021, from 9:00 a.m.-5:00 p.m., Pacific Standard Time.

All RAC meetings are subject to cancellation. For status of the meetings prior to attendance, please contact the person listed under For Further Information Contact.

ADDRESSES: The meetings will be held with virtual attendence only. Details on how members of the public can join a meeting are listed in the above website link under Summary.

Written comments may be submitted as described under Supplementary Information. All comments, including names and addresses when provided, are placed in the record and are available for public inspection and copying. The public may inspect comments received upon request.

FOR FURTHER INFORMATION CONTACT: Robert Sanchez, Designated Federal Officer (DFO), by phone at 541-750-7008 or email at robert.f.sanchez@usda.gov.

Individuals who use telecommunication devices for the deaf/hard-of-hearing (TDD) may call the Federal Relay Service (FRS) at 1-800-877-8339, 24 hours a day, every day of the year, including holidays.

SUPPLEMENTARY INFORMATION: The purpose of the meetings are to:

1. Review and discuss Title II project proposals; and

2. Make funding recommendations on Title II projects.

The meetings are open to the public. The agendas will include time for people to make oral statements of three minutes or less. Individuals wishing to make an oral statement at any of the meetings should make a request in writing by November 22, 2021, to be scheduled on the agenda for that particular meeting. Anyone who would like to bring related matters to the attention of the committee may file written statements with the committee staff before or after the meetings. Written comments and requests for time for oral comments must be sent to Lisa Romano, RAC Coordinator, 3200 SW Jefferson Way, Corvallis, Oregon 97331 or by email to lisa.romano@usda.gov.

Meeting Accommodations: Please make requests in advance for sign language interpreter services, assistive listening devices, or other reasonable accommodation. For access to proceedings, please contact the person listed in the section titled For Further Information Contact. All reasonable accommodation requests are managed on a case-by-case basis.

Equal opportunity practices, in line with USDA policies, will be followed in all membership appointments to the RAC. To help ensure that recommendations of the RAC have taken into account the needs of the diverse groups served by the Department, membership shall include, to the extent practicable, individuals with demonstrated ability to represent minorities, women, and persons with disabilities.

The USDA prohibits discrimination in all of its programs and activities on the basis of race, color, national origin, religion, sex, gender identity (including gender expression), sexual orientation, disability, age, marital status, family/parental status, political beliefs, income derived from a public assistance program, or reprisal or retaliation for prior civil rights activity in any program or activity conducted or funded by USDA (not all bases apply to all programs).

Dated: November 12, 2021.
Cikena Reid,
USDA Committee Management Officer.

[FR Doc. 2021-25093 Filed 11-16-21; 8:45 am]

BILLING CODE 3411-15-P